DEPARTMENT OF COMMERCE

Economic Development Administration

Notice of Petitions by Producing Firms for Determination of Eligibility To Apply for Trade Adjustment Assistance

AGENCY: Economic Development Administration (EDA).

ACTION: To give firms an opportunity to comment.

Petitions have been accepted for filing on the dates indicated from the firms listed below.

List of Petition Action by Trade Adjustment Assistance for Period 11/21/00-12/18/00
Firm name | Address | Date petition accepted | Product
Piller Plastics | 3925 S. Grant Street, Washougal, WA 98671 | 12/04/00 | Injection molded parts for the computer, toy, tool and forestry industries.
Mo Rad Manufacturing, Inc. d.b.a. Morad Radiator Products | 1900 East Malone, Sikeston, MO 63801 | 12/04/00 | Radiators and parts for the agricultural industry.
Sheppard Orchards, Inc | 3401 Dethman Ridge Dr., Hood River, OR 97031 | 12/06/00 | Pears.
Laurance Brothers, Inc | 7360 Cooper Spur Road, Parkdale, OR 97041 | 12/06/00 | Pears.
Rick Benjamin Orchards | 8675 Cooper Spur Road, Parkdale, OR 97041 | 12/06/00 | Pears.
Tele-Tech Corporation | 2050 Fairway Drive, Bozeman, MT 59715 | 36866 | Telecommunications transmission/reception parts.
Mini Lace, Inc | 960 West 84th Street, Hialeah, FL 33014 | 12/07/00 | Warp knit fabrics, primarily for the intimate apparel industry.
Toy Works, Inc. (The) | Fiddler's Elbow Road, Middle Falls, NY 12848 | 12/07/00 | Hand printed canvas travel bags, doormats, kitchen towels, pillows and stuffed toys.
Zimmer Industries, Inc | 200 Central Avenue, Hawthorne, NJ 07506 | 12/08/00 | Perforated steel and cutting rule, i.e. blades used by business form and labels industries.
DDG, Inc. d.b.a. Windsurfing Hawaii | 1114 June Street, Hood River, OR 97031 | 12/08/00 | Sailboard accessories and parts.
Madden Precision, Inc | 3500 Charleston Road, Norman, OK 73069 | 12/14/00 | Valve parts.
Goldens Foundry and Machine Co | 600 12th Street, Columbus, GA 31902 | 12/18/00 | Component for agricultural tractors and medical furniture—clutch pedals and bases for operating room tables.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: December 19, 2000.
Anthony J. Meyer,
Coordinator, Trade Adjustment and Technical Assistance.

[FR Doc. 00-33330 Filed 12-28-00; 8:45 am]

BILLING CODE 3510-24-U